DEPARTMENT OF AGRICULTURE

Forest Service

Wasatch-Cache National Forest; Utah; Ogden Travel Plan Revision

AGENCY: Forest Service, USDA.

ACTION: Notice of intent to prepare a supplemental environmental impact statement to the Ogden Travel Plan Revision.

SUMMARY: The USDA Forest Service announces its intent to prepare a Supplemental Environmental Impact Statement (SEIS) to the Ogden Travel Plan Revision Final Environment Impact Statement (FEIS). The Ogden Travel Plan Revision FEIS evaluated six alternatives for possible travel management of motorized trails and roads.

DATES: Scoping will not be conducted in accordance with 40 CFR 1502.9(c)(4). The draft supplemental environmental impact statement is expected in December 2006 and the final supplemental environmental impact statement is expected in March 2007.

ADDRESSES: Send written comments to Chip Sibbernsen, Ogden District Ranger, 507 25th Street, Ogden, Utah 84401.

FOR FURTHER INFORMATION CONTACT: Chip Sibbernsen, District Ranger, (801) 625-5112, Ogden Ranger District, 507 25th Street, Ogden, Utah, 84401.

SUPPLEMENTARY INFORMATION:

Proposed Action

On March 20, 2006, District Ranger Chip Sibbernsen made a decision designating routes open for motorized travel use, seasonal and other closures, development of two gravel sources, improvements to two concentrated use areas, and new trail construction on the Ogden Ranger District. The decision also allowed limited use of motor vehicles within 150 feet of designated roads to access dispersed camping sites.

The Record of Decision was appealed by four separate parties. Upon review the Appeal Deciding Officer Forest Supervisor Faye Krueger reversed the decision made by Ranger Chip Sibbernsen. The ruling was based on her finding that the environmental analysis and supporting information in the project record were not adequate to support the decision in regard to cumulative effects analysis. The SEIS will be limited in its scope and focus on cumulative environmental impacts directly related to the decision made in March 2006.

Responsible Official

Chip Sibbernsen, Ogden District Ranger, Ogden Ranger District, 507 25th Street, Ogden, Utah, 84401.

Dated: July 18, 2006.
Chip Sibbersen,
District Ranger.

[FR Doc. 06-6422 Filed 7-21-06; 8:45 am]

BILLING CODE 3410-11-M